DEPARTMENT OF AGRICULTURE

Outreach and Assistance for Socially Disadvantaged Farmers and Ranchers Program

AGENCY: Office of Outreach, USDA.

ACTION: Notice

SUMMARY: The USDA Office of Outreach announces the availability of Grants for the Outreach and Assistance for Socially Disadvantaged Farmers and Ranchers Program for Fiscal Year (FY) 2001. Proposals are hereby requested from eligible institutions and organizations for competitive consideration of Outreach and Assistance cooperative agreement awards. This program aims to promote diversified ownership of agricultural land and farm operations by encouraging and assisting socially disadvantaged farmers and ranchers to participate in Federal technical and financial assistance programs. The intended outcome is to encourage and assist socially disadvantaged farmers and ranchers to own and operate farms and ranches, participate in agricultural programs, and thus allow them to become an integral part of the agricultural community.

This notice sets out the objectives for the cooperative agreement funds, the eligibility criteria for projects and applicants, the application procedures and instructions, and the project selection process and evaluation criteria.

DATES: Proposals must be received on or before June 29, 2001. Proposals received after June 29, 2001 will not be considered for funding.

ADDRESSES: Submit proposals to the U.S. Department of Agriculture, Office of Outreach, Ag STOP 1710, 1400 Independence Avenue, SW., Washington, DC 20250. Applicants may request application packages from the above address marked to the attention of: Geraldine Herring, by telephone on 1-800-880-4183, or by E-mail at 2501rfp@usda.gov.

FOR FURTHER INFORMATION CONTACT: Director, USDA Office of Outreach, Telephone 202-720-6350, Facsimile (202) 720-7489 or Geraldine Herring, Special Outreach Program Coordinator, Telephone 202-720-1637, Facsimile 202-720-7489.

SUPPLEMENTARY INFORMATION:

Stakeholder Input:

The USDA Office of Outreach is soliciting comments regarding this request for proposals from any interested party. These comments will be considered in the development of the next request for proposals for this program. Such comments will be forwarded to the Secretary or her designee for use in meeting the requirements of section 2501 of the Food, Agriculture, Conservation and Trade Act of 1990. Written comments should be submitted by first-class mail to: USDA Office of Outreach, 1400 Independence Avenue, SW., Ag Stop 1710, Washington, DC 20250, or via e-mail to 2501rfp@usda.gov. In your comments, please include the name of the program and the fiscal year of the request for proposals to which you are responding. Comments are requested within six months from the issuance of the request for proposals. Comments received after that date will be considered to the extent practicable.

Table of Contents

Part I—General Information

A. Authority

B. Definitions

C. Eligibility

D. Program Application Materials

Part II—Program Description

A. Purpose of Program

B. Available Funding

C. Indirect Costs

D. Substantial Federal Involvement

Part III—Proposal Content

A. Cover Page

B. Project Summary

C. Project Narrative

D. Scope of Program

E. Delivery

F. Collaborative Arrangements

G. Budget

H. Personnel

I. Current and Pending Support

Part IV—Submission of a Proposal

A. What to Submit

B. When and Where to Submit

C. Acknowledgment of Proposals

Part V—Proposal Review, Selection Process and Evaluation Criteria

A. Proposal Review

B. Evaluation Criteria and Weight

C. Selection Process

Part VI—Program Administration Information

A. Access to Peer Review Information

B. Cooperative Agreement Awards

C. Use of Funds; Changes

D. Obligation of the Federal Government

E. Environmental and Other Applicable Federal Statutes and Regulations

F. Confidential Aspects of Proposals and Awards

G. Standards of Conduct for Employees of an Awardee

Part I—General Information

A. Authority

Section 2501 (a) of the Food, Agriculture, Conservation, and Trade Act of 1990, 7 U.S.C. 2279 (a), authorizes the Secretary of Agriculture, who has delegated the authority to the Director of the USDA Office of Outreach, to make awards to eligible institutions and organizations for outreach and technical assistance to encourage and assist socially disadvantaged farmers and ranchers to own and operate farms and ranches and to participate in agricultural programs. The program is administered by the U.S. Department of Agriculture, Office of Outreach under the Outreach and Assistance for Socially Disadvantaged Farmers and Ranchers Program.

USDA Office of Outreach published in this same edition of the Federal Register proposed regulations governing the administration of this program. The proposed regulations set forth how the USDA Office of Outreach will administer this program, including procedures to be followed when submitting proposals, rules governing the evaluation of proposals and the awarding of cooperative agreements, and regulations relating to the post-award administration of projects. The USDA Office of Outreach anticipates finalizing the proposed regulations prior to the award of cooperative agreements under this Notice of Request for Proposals (RFP). Awards resulting from this RFP will be subject to the final regulations.

Currently, the RFP and the proposed regulations are consistent. Because of the nature of the rule making process, these requirements are subject to change based upon comments received. Applicants whose proposals are recommended for funding must agree to be bound by the final rule as a condition of receiving an award under this program.

B. Definitions

For this program, the following definitions apply:

1890 Land-Grant Colleges means one of those institutions eligible to receive funds under the Act of August 30, 1890, as amended (7 U.S.C. 321 et seq.), including Tuskegee University.

Agricultural programs means those activities established or authorized by: The Agricultural Act of 1949; the Consolidated Farm and Rural Development Act; the Agricultural Adjustment Act of 1938; the Soil Conservation Act; the Domestic Allotment Assistance Act; the Food Security Act of 1985; and other such Acts as determined by the Director, USDA Office of Outreach, on a case-by-case basis either at the Director's initiative or in response to a written request with supporting explanation for inclusion of an Act. Covered programs include, but are not limited to, agricultural conservation program, programs comprising the environmental conservation acreage reserve program (ECARP), conservation technical assistance program, emergency conservation program, forestry incentives program, Great Plains Conservation Program, integrated farm management option program, price support and production adjustment programs, rural environmental conservation program, soil survey program, and water bank program; and the farm loan programs (farm ownership, operating, soil and water, and emergency loans).

Alaska Native means a citizen of the United States who is a person of one-fourth degree or more Alaska Indian (including Tsimshian Indians not enrolled in the Metlaktla Indian Community) Eskimo, or Aleut blood, or combination thereof. It also includes, in the absence of proof of a minimum blood quantum, any citizen of the United States who is regarded as an Alaska Native by the Native village or Native group of which he claims to be a member and whose father or mother is (or, if deceased, was) regarded as Native by any village or group.

Alaska Native cooperative colleges means any post-secondary education institution that at the time of application, has an enrollment of undergraduate students that is at least 20 percent Alaska Native students.

Authorized organizational representative means the president or chief executive officer of the applicant organization or the official, designated by the president or chief executive officer of the applicant organization, who has the authority to commit the resources of the organization.

Awardee means the recipient designated in the cooperative agreement as the responsible legal entity to which the Federal assistance is awarded.

Awarding official means the Director of the USDA Office of Outreach or the Director's designee, who has been delegated the authority to issue or modify program agreements on behalf of the Secretary of Agriculture for this program.

Budget Period means the interval of time (usually 12 months) into which the project period is divided for budgetary and reporting purposes.

Community-based organization means a nonprofit, nongovernmental organization with a well-defined constituency that includes all or part of a particular community, e.g., communities consisting of socially disadvantaged farmers and ranchers.

Cooperative agreement means an award of funds to an eligible entity with the following characteristics:

(1) The principal purpose of the award is to transfer a thing of value to the awardee to accomplish a public purpose of support or stimulation authorized by statute, rather than acquisition, by purchase, lease, or barter, of property or services for the direct benefit or use of the Federal Government; and

(2) At the time of award, substantial involvement is anticipated between the USDA Office of Outreach and the awardee in performing the activity under the agreement.

Department or USDA means the United States Department of Agriculture.

Enrollment of needy students means an enrollment at an institution with respect to which:

(1) At least 50 percent of the degree students so enrolled are receiving need-based Federal financial assistance, including the Federal work-study program, in the second fiscal year preceding the fiscal year for which the determination is made (other than loans for which an interest subsidy is paid pursuant to section 1078 of this title); or

(2) A substantial percentage of the students so enrolled are receiving Federal Pell Grants in the second fiscal year preceding the fiscal year for which determination is made, compared to the percentage of students receiving Federal Pell Grants at all such institutions in the second fiscal year preceding the fiscal year for which the determination is made.

Full-time equivalent students means the sum of the number of students enrolled full time at an institution, plus the full-time equivalent of the number of students enrolled part time (determined on the basis of the quotient of the sum of the credit hours of all part-time students divided by 12) at such institution.

Grant means an award of funds to an awardee with the following characteristics:

(1) The principal purpose of the award is to accomplish a public purpose authorized by statute, rather than acquisition, by purchase, lease, or barter, of property or services for the direct benefit or use of the Federal Government; and

(2) At the time an award is made, no substantial involvement is anticipated between OR and the awardee.

Hispanic Serving Post-Secondary Educational Institutions means a post-secondary educational institution that:

(1) At the time of application, has an enrollment of undergraduate full-time equivalent students that is at least 25 percent Hispanic students; and

(2) Provides assurances that not less than 50 percent of the institution's Hispanic students are low-income individuals.

Indian Tribal Community Colleges means a post-secondary educational institution which:

(1) Is formally controlled, or has been formally sanctioned, or chartered, by the governing body of an Indian tribe or tribes, except that no more than one such institution shall be recognized with respect to any such tribe; and

(2) Includes an institution listed in the Equity in Educational Land Grant Status Act of 1994, as amended (7 U.S.C. 301 note). The 1994 Land-Grant Institutions are: Bay Mills Community College, Blackfeet Community College, Cankdeska Cikana Community College, Cheyenne River Community College, Dine Community College, D-Q University, Dullknife Memorial College, Fond Du Lac Community College, Fort Belknap Community College, Fort Berthold Community College, Fort Peck Community College, LacCourte Orielles Ojibwa Community College, Little Big Horn Community College, Little Priest Community College, Nebraska Indian Community College, Northwest Indian College, Oglala Lakota College, Salish Kootenai College, Sinte Gleska University, Sisseton Wahpeton Community College, Sitting Bull College, Stonechild Community College, Turtle Mountain Community College, United Tribes Technical College, Southwest Indian Polytechnic Institute, Institute of American Indian Arts, Crownpoint Institute of Technology, Haskell Indian Nations University, Leech Lake Tribal College, and College of the Menominee Nation.

Junior or community college means an institution of higher education:

(1) That admits as regular students persons who are beyond the age of compulsory school attendance in the State in which the institution is located and who have the ability to benefit from the training offered by the institution;

(2) That does not provide an educational program for which the institution awards a bachelor's degree (or an equivalent degree); and

(3) That—

(i) provides an educational program of not less than 2 years in duration that is acceptable for full credit toward such a degree; or

(ii) offers a 2-year program in engineering, mathematics, or the physical or biological sciences, designed to prepare a student to work as a technician or at the semiprofessional level in engineering, scientific, or other technological fields requiring the understanding and application of basic engineering, scientific, or mathematical principles of knowledge.

Low-income individual means an individual from a family whose taxable income for the preceding year did not exceed 150 percent of an amount equal to the poverty level determined by using criteria of poverty established by the Bureau of the Census.

Peer Reviewers means experts from public and private sectors qualified by training and experience in particular fields and designated by the Director, USDA Office of Outreach or other designated official to evaluate eligible proposals.

Post-Secondary Educational Institutions means an institution of higher education in any State which:

(1) Admits as regular students only persons having a certificate of graduation from a school providing secondary education, or the recognized equivalent of such a certificate;

(2) Is a public or other nonprofit institution;

(3) Has an enrollment of needy students as defined above;

(4) The average educational and general expenditures of which are low, per full-time equivalent undergraduate student, in comparison with the average educational and general expenditures per full-time equivalent undergraduate student of institutions that offer similar instruction;

(5) Is—

(i) legally authorized to provide, and provides within the State, an educational program for which such institution awards a bachelor's degree;

(ii) a junior or community college; or

(iii) the College of the Marshall Islands, the College of Micronesia/Federated States of Micronesia, and Palau Community College;

(6) Is accredited by a nationally recognized accrediting agency or association determined by the Secretary to be reliable authority as to the quality of training offered or which is, according to such an agency or association, making reasonable progress toward accreditation;

(7) Meets such other requirements as the Secretary may prescribe; and

(8) Is located in a State. Any branch of any institution of higher education described above which satisfies criteria (3) and (4) above. For purposes of the determination of whether an institution is an eligible institution under this paragraph, the factor (3) shall be given twice the weight of the factor (4).

Prior approval means written, prior consent by the awarding official.

Project means the total activities within the scope of the program as identified in the grant or cooperative agreement.

Project Director means the individual responsible for the technical direction and management of the project, as designated by the awardee in the proposal and approved by the awarding official. The project director will devote full time to the administration of the project.

Project Period means the total time approved by the awarding official for conducting the proposed project as outlined in an approved project proposal or the approved portions thereof and as specified in the cooperative agreement.

Recipient means an entity as defined in § 26.5 of this part that has entered into a grant or cooperative agreement with the USDA Office of Outreach.

Requests for Proposals (RFP) means an invitation to submit proposals for consideration for funding under this program.

Socially Disadvantaged Farmer or Rancher means a farmer or rancher who is a member of a socially disadvantaged group.

Socially Disadvantaged Group means a group whose members have been subjected to racial or ethnic prejudice because of their identity as members of a group without regard to their individual qualities. Socially disadvantaged groups include, but are not limited to, African Americans, Native Americans, Alaskan Natives, Hispanics, Asians, and Pacific Islanders. The Secretary will determine on a case-by-case basis whether additional groups qualify under this definition, either at the Secretary's initiative or in response to a written request with supporting explanation.

C. Eligibility

1. Proposals may be submitted by:

a. 1890 Land-Grant Colleges, including Tuskegee University, Indian tribal community colleges and Alaska native cooperative colleges, Hispanic serving post-secondary educational institutions, and other post-secondary educational institutions with demonstrated experience in providing agricultural education or other agriculturally related services to socially disadvantaged family farmers and ranchers in their region; and

b. Any community-based organization that:

(i) has demonstrated experience in providing agricultural education or other agriculturally related services to socially disadvantaged farmers and ranchers;

(ii) provides documentary evidence of its past experience in working with socially disadvantaged farmers and ranchers during the two years preceding its application for assistance. Documentary evidence shall include a narrative providing specific information regarding the scope of past projects (including the number of socially disadvantaged farmers and ranchers served or in the area served by the organization), activities conducted, and community involvement and copies of prior agreements, press releases, news articles, and other contemporaneous documents supporting the narrative; and

(iii) does not engage in activities prohibited under section 501(c)(3) of the Internal Revenue Code of 1986.

2. In addition to the above, an applicant must qualify as a responsible applicant. Applicants not qualifying as responsible may be subject to special award conditions pursuant to 7 CFR 3019.14. To qualify as responsible, an applicant must meet the following standards:

(a) Adequate financial resources for performance, the necessary experience, organizational and technical qualifications, and facilities, or a firm commitment, arrangement, or ability to obtain same (including any to be obtained through sub-agreement(s));

(b) Ability to comply with the proposed or required completion schedule for the project;

(c) Adequate financial management system and audit procedures that provide efficient and effective accountability and control of all funds, property, and other assets;

(d) Satisfactory record of integrity, judgment, and performance, including, in particular, any prior performance under grants and contracts from the Federal government; and

(e) Otherwise be qualified and eligible to receive an award under the applicable laws and regulations.

Although an applicant may be eligible to compete for an award based on its status as an eligible entity, other factors may exclude an applicant from receiving Federal assistance under this program (e.g., debarment and suspension, a determination of non-responsibility based on the information submitted).

D. Program Application Materials

Program application materials will be made available upon request. These materials include information on the purpose of the program, how the program will be conducted, the required contents of a proposal, and the forms needed to prepare and submit applications.

Part II—Program Description

A. Purpose of Program

Proposals are requested for cooperative agreements for outreach and assistance to socially disadvantaged farmers and ranchers. Cooperative agreements will be awarded competitively to eligible organizations and institutions for a one-year project to conduct outreach and technical assistance to encourage and assist socially disadvantaged farmers and ranchers to own and operate farms and ranches, and to provide information on application and bidding procedures, farm management, and other essential information to participate in agricultural programs.

Agricultural programs include but are not limited to the following, identified by the Catalog of Federal Domestic Assistance number and program title: (10.054) Emergency Conservation Program; (10.055) Production Flexibility Payments for Contract Commodities; (10.064) Forestry Incentives Program; (10.069) Conservation Reserve Program; (10.404) Emergency Loans; (10.406) Farm Operating Loans; (10.407) Farm Ownership Loans; (10.900) Great Plains Conservation; and (10.903) Soil Survey.

B. Available Funding

For fiscal year (FY) 2001, $3 million has been appropriated for this program. An additional $3 million has been authorized from the Fund for Rural America. Therefore, the total funds available for this program in FY 2001 are about $6 million and the total of all awards will not exceed this amount. The amount of funds available for this program in subsequent years is not fixed and may vary considerably from the current funding level.

C. Indirect Costs

Section 708 of the Agriculture, Rural Development, Food and Drug Administration, and Related Agencies Appropriations Act, 2001, Public Law 106-387, limits indirect costs under cooperative agreements between USDA and non-profit institutions, including institutions of higher education, to ten percent of the total direct costs of the agreement. Section 708 authorizes an exception to the ten percent limit for institutions that compute indirect cost rates on a similar basis for all agencies for which the Act makes appropriations.

If requested, indirect costs must be justified and may not exceed the ten percent limitation or the current rate negotiated with the cognizant Federal-negotiating agency. Applications from colleges and universities must provide a statement in the budget narrative verifying that the indirect costs requested are in accordance with institutional policies.

D. Substantial Federal Involvement

The USDA Office of Outreach will award cooperative agreements under this RFP. By statute, the Federal awarding agency must be substantially involved in the project to enter into a cooperative agreement to provide assistance. The USDA Office of Outreach anticipates the following involvement, which it has deemed substantial, in carrying out projects funded with Federal assistance provided through a cooperative agreement under this program:

(a) The USDA Office of Outreach will serve as liaison and coordinate the close collaboration between awardees and USDA agencies that administer agricultural programs targeted for outreach under the project;

(b) The USDA Office of Outreach will facilitate and coordinate training and continuing updates for awardees regarding the regulatory requirements, application procedures, and compliance for targeted agricultural programs;

(c) USDA Office of Outreach will assist awardees in planning workshops for targeted socially disadvantaged groups, including coordinating the provision of available information (e.g., application forms and instructions) from USDA necessary to accomplish workshop objectives;

(d) The USDA Office of Outreach must approve position descriptions and the selection of key personnel as identified in the project proposal if such personnel are hired or replaced during the project period;

(e) The USDA Office of Outreach will work closely with awardees to obtain the significant amounts of information necessary for the USDA Office of Outreach to comply with its statutory requirements to provide reports regarding this program to the Congress; and

(f) The USDA Office of Outreach will monitor projects closely and may request changes in project direction as necessary.

Part III—Proposal Content

A. Cover Page

1. Complete the “Application for Funding” form in its entirety.

2. Note that providing a Social Security Number is voluntary.

3. One copy of the “Application for Funding” form must contain the pen and ink signatures of the project director and authorized organizational representative for the applicant organization.

4. Note that by signing the “Application for Funding” form the applicant is providing the required certifications set forth in 7 CFR Part 3017 regarding Debarment and Suspension and Drug-Free Workplace, and 7 CFR Part 3018, regarding Lobbying.

5. Provide the name, address, telephone and fax numbers of applicant and project director.

6. The title of the proposal must be brief (80-character maximum) yet represent the major thrust of the project.

B. Project Summary

Each proposal must contain a concise project summary, which may not exceed two (2) pages in length. The project summary should contain the following:

1. Brief summary of the needs (including the estimated numbers expected to be served) of socially disadvantaged farmers and ranchers in the area to be served to enhance their ability to participate in agricultural programs;

2. Goals of the one-year plan and overall project goal(s) and supporting objectives with proposed outcomes; and

3. Relevance or significance of the one-year plan to enhancing the participation of socially disadvantaged farmers and ranchers in agriculture and USDA agricultural programs.

C. Project Narrative

The specific aims of the project must be included in all proposals. The text of the project narrative may not exceed fifteen (15) pages and must contain the following components:

1. Introduction: A clear statement of the goal(s) and supporting objectives with proposed outcomes of the proposed project should preface the project description.

2. Background and Existing Situation: Provide a detailed description of the circumstances giving rise to the need for the proposed activity to assist socially disadvantaged farmers and ranchers within the State or region.

3. Objectives: The objectives of the one-year plan should be clear, complete, and logically arranged. The statements should detail the major steps necessary to develop the plan with specific milestones and planned accomplishments. The objectives should contain details of how the accomplishments will advance the goal for assisting socially disadvantaged farmers and ranchers in obtaining information on application and bidding procedures, farm management, and other essential information to participate in agricultural programs. List the specific agricultural programs for which the proposed project will provide outreach and assistance.

4. Procedures. Describe the steps necessary to implement the proposed one-year plan including the methods or plan of action to attain the stated objectives.

5. Evaluation: Describe the evaluation plan for the proposed activity, including impact factors and indicators of effectiveness and efficiency in accomplishing objectives.

D. Scope of Program

All projects must contain explicit information indicating how results from the project will be measured, evaluated, and reported. The indicators used to measure results of the project should be clear and objective and focus on the anticipated impacts on socially disadvantaged farmers and ranchers.

E. Program Delivery

Program delivery is providing instruction and materials directly to the socially disadvantaged farmers and ranchers. A successful proposal will include the use of strong organizational skills to reach the socially disadvantaged farmers and ranchers in a specific region. Proposals should show how public or private sector (or both) delivery points would be used to reach socially disadvantaged farmers and ranchers.

F. Collaborative Arrangements

If the nature of the proposed project requires collaboration or subcontractural arrangements with other entities, the applicant must identify the collaborator or subcontractor and provide a full explanation of the nature of the relationship.

G. Budget

A budget and a detailed narrative in support of the budget are required for the overall project period. Show all funding sources and itemized costs by the following line items on the budget form: personnel, equipment, material and supplies, travel and all other costs. Funds may be requested under any of the line items listed above provided that the item or service for which support is requested is identified as necessary for successful conduct of the proposed project, is allowable under the authorizing legislation and the applicable Federal cost principles, and is not prohibited under any applicable Federal statute. Salaries of project personnel who will be working on the project may be requested in proportion to the effort that they will devote to the project.

H. Personnel

Summarize the relevant experience of key project personnel that will enable them to successfully complete the project. Include brief vitae, which provide enough information so that proposal reviewers can make an informed judgment as to their capabilities and experience. An organizational chart for the project should be provided, if available.

I. Current and Pending Support

All proposals must list any other current public or private support to which key personnel identified in the proposal have committed portions of their time, whether or not salary support for person(s) involved is included in the budget. Analogous information must be provided for any pending proposals that are being considered by, or that will be submitted in the near future to, other possible sponsors, including other USDA programs or agencies. Concurrent submission of identical or similar proposals to other possible sponsors will not prejudice proposal review or evaluation for this program.

Part IV—Submission of Proposal

A. What To Submit

An original and two (2) copies of the proposal must be submitted. Each copy of each proposal must be stapled securely in the upper left-hand corner (Do Not Bind). All copies of the proposal including all necessary forms must be submitted in one package.

B. When and Where To Submit

Proposals must be received by close of business on (DATE). A proposal's postmark date is not a factor in whether an application is timely received. The applicant assumes the risk of any delays in proposal delivery. Proposals sent by First Class mail must be sent to the following address: U.S. Department of Agriculture, Office of Outreach, Ag STOP 1710, 1400 Independence Avenue, SW., Washington, DC 20250. Hand-delivered proposal and those delivered by overnight express mail or courier service should be brought to the following address: U.S. Department of Agriculture, Office of Outreach, 501 School Street, SW., 1st Floor, Washington, DC 20024.

C. Acknowledgment of Proposals

The receipt of all proposals will be acknowledged in writing and this acknowledgment will contain an identifying proposal number. Once a proposal has been assigned an identification number, the number should be referred to in future correspondence.

Part V—Proposal Review, Selection Process and Evaluation Criteria

A. Proposal Review

Prior to technical examination, a preliminary review will be made by the USDA Office of Outreach staff for responsiveness to this solicitation. Proposals that do not fall within the solicitation guidelines will be eliminated from competition. All responsive proposals will be reviewed by peer reviewers using the evaluation criteria stated below. The peer reviewers will be selected to provide maximum expertise and objective judgment in the evaluation of proposals.

The USDA Office of Outreach staff will use the views of the individual reviewers to determine which proposals to recommend to the Director, USDA Office of Outreach for funding. Evaluated proposals will be ranked by the USDA Office of Outreach staff based on merit. Final approval for those proposals will be made by the Director.

B. Evaluation Criteria and Weight

The USDA Office of Outreach considers all applications received in response to this solicitation as outreach, training and technical assistance project applications. All responsive proposals will be reviewed based on the following criteria:

1. Institutional Commitment and Resources (20 points)

Degree to which the institution or organization is committed to the project. Experience, qualifications, competence, and availability of personnel and resources to direct and carry out the project.

2. Feasibility and Policy Consistency (20 points)

Degree to which the proposal clearly describes its objectives and evidences a high level of feasibility and consistency with the USDA policy and mission. This criterion relates to the adequacy, soundness of the proposed approach to the solution of the problem and evaluates the plan of operation, timetable, evaluation and dissemination plans.

3. Number of Socially Disadvantaged farmers and Ranchers Served and Collaboration (20 points)

Degree to which the proposal reflects partnerships and collaborative initiatives with other agencies or organizations to enhance the quality and effectiveness of the program. Additionally, the areas and number of socially disadvantaged farmers and ranchers who would benefit from the services offered.

4. Socially Disadvantaged Applicants—Outreach (20 points)

Degree to which the proposal contains efforts to reach persons identified as socially disadvantaged farmers and ranchers in targeted counties. Potential for encouraging and assisting socially disadvantaged farmers and ranchers to own and operate farms and ranches and to participate in agricultural programs. Elements considered include impact, continuation plans, innovation, and expected products and results.

5. Preparatory Features—Statement of Work (15 points)

Degree to which the proposal reflects innovative strategies for reaching the population targeted in the proposal and achieving the project objectives. Elements evaluated include originality, practicality, and creativity in developing and testing innovative solutions to existing or anticipated issues or problems of socially disadvantaged farmers and ranchers. Responsiveness to the need to provide socially disadvantaged farmers and ranchers with information and assistance on application and bidding procedures, farm management, other essential information to enhance participation of agricultural programs and conducting a successful farming operation.

6. Overall Quality of the Proposal (5 points)

Degree to which the proposal complies with the Application Guidelines and is of high quality. Elements considered include adherence to instructions, accuracy and completeness of forms, clarity and organization of ideas, thoroughness and sufficiency of detail in the budget narrative, specificity of allocations between targeted areas if the proposal addresses more than one area, and completeness of vitae for all key personnel associated with the project.

C. Selection Process

When the peer reviewers have completed their individual evaluations, the USDA Office of Outreach staff, based on the individual reviews will make recommendations to the Director, USDA Office of Outreach that each responsive proposal be (a) approved for support from currently available funds or (b) declined due to insufficient funds or unfavorable review (low evaluation score). The Director, USDA Office of Outreach, reserves the right to make awards to ensure variety among both successful applicants and the nature of the projects funded in order to accomplish the program objectives. The Director, USDA Office of Outreach also reserves the right to negotiate with an applicant whose project is recommended for funding regarding project revisions (e.g., reductions in scope of work), funding level, or period of support prior to any award. A proposal may be withdrawn at any time before a final funding decision is made.

Part VI—Program Administration

A. Access to Peer Review Information

After the final decisions have been announced, the Director, USDA Office of Outreach will, upon request, inform the applicant of the basis for the decision on a proposal. Copies of summary reviews, not including the identity of the reviewers, will be made available to respective project directors.

B. Cooperative Agreement Awards

1. General

Within the limit of funds available for such purpose, the Director, USDA Office of Outreach shall enter into cooperative agreements with successful applicants. The date specified by the Director, USDA Office of Outreach as the effective date of the award shall not be later than September 30 of the federal fiscal year in which the project is approved for support and funds are appropriated for such purpose, unless otherwise permitted by law. It should be noted that the project period need not be initiated on the award effective date, but as soon as practicable thereafter so that project goals may be attained within the funded project period. All funds awarded and administered by the USDA Office of Outreach under this request for proposals shall be expended solely for the purpose for which the funds are awarded in accordance with the approved application and budget, the terms and conditions of any resulting award, the applicable Federal cost principles, and the USDA Federal assistance regulations. Funds for fiscal year 2001 are limited to proposals with a one-year plan for outreach and technical assistance to socially disadvantaged farmers or ranchers.

2. Cooperative Agreement Award Document

The cooperative agreement shall include at a minimum the following:

(a) Legal name and address of performing organization or institution to whom the Director, USDA Office of Outreach has entered into a cooperative agreement under the terms of this request for proposals;

(b) Title of Project;

(c) Name(s) and address(es) of project director(s) chosen to direct and control approved activities;

(d) Identifying cooperative agreement number assigned by the USDA Office of Outreach;

(e) Project period; specifying the amount of time the USDA Office of Outreach intends to support the project without requiring recompetition for funds;

(f) Total amount of the financial assistance approved by the USDA Office of Outreach during the project period.

(g) Legal authority(ies) under which the cooperative agreement is awarded.

(h) Approved budget plan for categorizing allocable project funds to accomplish the stated purpose of the cooperative agreement; and

(i) Other information or provisions deemed necessary by the USDA Office of Outreach to carry out its assistance activities or to accomplish the purpose of a particular cooperative agreement.

3. Notice of Award

The notice of award, in the form of a letter, will be prepared and will provide pertinent instructions or information to the awardee that is not included in the cooperative agreement.

C. Use of Funds; Changes

1. Delegation of Fiscal Responsibility

The awardee may not in whole or in part delegate or transfer to another person, institution, or organization the responsibility for use or expenditure of cooperative agreement award funds.

2. Changes in Project Plans

(a) The permissible changes by the awardee, project director(s), or other key project personnel in the approved project cooperative agreement shall be limited to changes to aspects of the project to expedite achievement of the project's approved goals. If the awardee is uncertain as to whether a change complies with this provision, the question must be referred to the Director, USDA Office of Outreach for final determination.

(b) Changes in approved goals or objectives shall be requested by the awardee and approved in writing by the Director, USDA Office of Outreach prior to effecting such changes. In no event shall requests for such changes be approved which are outside the scope of the original approved project.

(c) Changes in approved project leadership or the replacement or reassignment of other key project personnel shall be requested by the awardee and approved in writing by the Director, USDA Office of Outreach prior to effecting such changes.

(d) Changes in Project Period: An awardee is obligated to complete the proposed project within the specified project period. However, if additional time is needed to complete activities under the agreement, the Director, USDA Office of Outreach has authority to extend one time the duration of an agreement for an additional period of up to 12 months. Entities desiring an extension of the agreement project period must request such extensions in writing at least ten (10) days prior to the expiration of the agreement project period. The request will include the reason for the requested extension, the requested period of extension, a description of the effect(s) on the program if the extension is not granted, and a statement that no additional federal funds would be necessary to support the agreement activities during the extension period. No additional Federal funds will be provided for the extension period. This one-time extension is not available merely for this purpose of using unobligated balances.

(e) Changes in Approved Budget: Changes in an approved budget must be requested by the awardee and approved in writing by the Director, USDA Office of Outreach prior to instituting such changes if the revision will:

(1) Involve transfers of amounts budgeted for indirect costs to absorb an increase in direct costs.

(2) Involve transfers of amounts budgeted for direct costs to accommodate changes in indirect cost rates negotiated during a budget period and not approved when a cooperative agreement was awarded; or

(3) Involve transfers or expenditures of amounts requiring prior approval as set forth in the applicable Federal cost principles, Departmental regulations, or the cooperative agreement.

D. Obligation of the Federal Government

Neither the approval of any application nor the award of any cooperative agreement commits or obligates the United States to provide further support of a project or any portion thereof. Acceptance by the USDA Office of Outreach of any proposal pursuant to this program does not ensure further support of a project or any portion thereof.

E. Environmental and Other Applicable Federal Statutes and Regulations

1. Environmental requirements: The policies and regulations contained in 7 CFR part 1b apply to cooperative agreements made under this RFP.

2. Several other Federal statutes and regulations apply to this program. These include, but are not limited to the following:

7 CFR Part 3—USDA implementation of OMB Circular A-129 regarding debt collection;

7 CFR Part 1, subpart A—USDA implementation of the Freedom of Information Act;

7 CFR Part 15, subpart A—USDA implementation of Title VI of the Civil Rights Act of 1964;

7 CFR Part 3015—USDA Uniform Federal Assistance Regulations, implementing OMB directives (i.e., Circular Nos. A-110, A-21, and A-122) and incorporating provisions of 31 U.S.C. 6301-6308, as well as general policy requirements applicable to recipients of Departmental financial assistance;

7 CFR Part 3017—USDA implementation of Governmentwide Debarment and Suspension (nonprocurement) and Governmentwide Requirements for Drug-Free Workplace (Grants);

7 CFR Part 3018—USDA implementation of New Restrictions on Lobbying. Imposes prohibitions and requirements for disclosure and certification related to lobbying on recipients of Federal contracts, grants, cooperative agreements, and loans;

7 CFR Part 3019—USDA Uniform Administrative Requirements for Grants and Agreements with Institutions of Higher Education, Hospitals and Other Non-Profit Organizations;

29 U.S.C. 794, section 504 of the Rehabilitation Act of 1973, and 7 CFR Part 15b (USDA implementation of the statute), prohibiting discrimination based upon physical or mental handicap in Federally assisted programs;

48 CFR Part 31—Contract Cost Principles and Procedures of the Federal Acquisition Regulation; and

35 U.S.C. 200 et seq.—Bayh-Dole Act, controlling allocation of rights to inventions made by employees of small business firms and domestic nonprofit organizations, including universities, in Federally assisted programs (implementing regulations are contained in 37 CFR Part 401).

F. Confidential Aspects of Proposals and Awards

When a proposal results in a cooperative agreement, it becomes a part of the record of the Agency's transactions, available to the public upon specific request. Information that the Director, USDA Office of Outreach determines to be of a privileged nature will be held in confidence to the extent permitted by law. Therefore, any information that the applicant wishes to have considered as privileged should be clearly marked as such and sent in a separate statement, two copies of which should accompany the proposal.

The original copy of each proposal that is not selected for funding (including those that are withdrawn) will be retained by the USDA Office of Outreach for one year. Other copies will be destroyed. After one year, the retained copy will be destroyed.

G. Standards of Conduct for Employees of Awardee

1. Awardees must establish safeguards and guidelines for the award and administration of contracts in order to prevent employees, consultants, or members of governing bodies from using their positions for purposes that are, or give the appearance of being, motivated by a desire for private financial gain for themselves or others such as those with whom they have family, business, or other ties. Therefore, awardees receiving financial support must have written policy guidelines on conflict of interest and the avoidance thereof. These guidelines should reflect State and local laws and must cover financial interests, gifts, gratuities and favors, nepotism, and other areas such as political participation and bribery. These rules must also indicate the conditions under which outside activities, relationships, or financial interests are proper or improper, and provide for notification of these kinds of activities, relationships, or financial interests to a responsible and objective awardee official. For the requirements of a code of conduct applicable to procurements under grants and cooperative agreements, see the procurement standards prescribed by 7 CFR 3015.181 and 7 CFR 3019.42.

2. The rules of conduct must contain a provision for prompt notification of violations to a responsible and objective awardee official and must specify the type of administrative action that may be taken against an individual for violations.

3. A copy of the rules of conduct must be given to each officer, employee, board member, and consultant of the awardee who is working on the USDA Office of Outreach financed project, and the rules must be enforced to the extent permissible under State and local law or to the extent to which the awardee determines it has legal and practical enforcement capacity. The rules need not be formally submitted and approved by the awarding official; however, they must be made available for review upon request, for example, during a site visit.

Done at Washington, DC, this 23rd day of April 2001.
Ann M. Veneman,
Secretary of Agriculture.

[FR Doc. 01-10524 Filed 4-27-01; 8:45 am]

BILLING CODE 3410-01-U